DEPARTMENT OF HOMELAND SECURITY

Federal Emergency Management Agency

Agency Information Collection Activities: Submission for OMB Review; Comment Request

AGENCY: Federal Emergency Management Agency, DHS.

ACTION: Notice; 30-day notice and request for comments; Extension, without change, of a currently approved collection, OMB Number 1660-0024, No Form.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: Federal Assistance for Offsite Radiological Emergency Planning.

OMB Number: 1660-0024.

Abstract: In accordance with Executive Order 12657, FEMA will need certain information from the licensee (the utility which has applied for or received a license from the Nuclear Regulatory Commission (NRC) to operate a nuclear power plant) in order to form a decision, based on the advice of the NRC, as to whether or not a condition of “decline or fail” exists on the part of State or local governments (44 CFR 352.3-4). This information will be collected by the appropriate FEMA Regional Office or Headquarters.

Affected Public: Business or other for-profit.

Number of Respondents: 1.

Estimated Time per Respondent: 160 hours.

Estimated Total Annual Burden Hours: 160 hours.

Frequency of Response: Once.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before January 2, 2009.

FOR FURTHER INFORMATION CONTACT: Requests for additional information or copies of the information collection should be made to Acting Director, Records Management Division, 500 C Street, SW., Washington, DC 20472, Mail Drop Room 301, facsimile number (202) 646-3347, or e-mail address FEMA-Information-Collections@dhs.gov.

Lawann Johnson,
Acting Director, Records Management Division, Office of Management, Federal Emergency Management Agency, Department of Homeland Security.

[FR Doc. E8-28688 Filed 12-2-08; 8:45 am]

BILLING CODE 9110-21-P